DEPARTMENT OF DEFENSE

Defense Acquisition Regulations System

Waiver for Certain Defense Items Produced in the United Kingdom

AGENCY: Defense Acquisition Regulations System, Department of Defense (DoD).

ACTION: Notice.

SUMMARY: The Under Secretary of Defense (Acquisition, Technology, and Logistics) is waiving the statutory limitation for certain defense items produced in the United Kingdom (UK). The law limits DoD procurement of certain items to sources in the national technology and industrial base. The waiver will permit procurement of enumerated items from sources in the UK, unless otherwise restricted by statute.

DATES: This waiver is effective beginning February 1, 2012, until February 1, 2013.

FOR FURTHER INFORMATION CONTACT: Ms. Patricia Foley, OUSD (AT&L), Office of the Director of Defense Procurement and Acquisition Policy, Contract Policy and International Contracting, Room 5E621, 3060 Defense Pentagon, Washington, DC 20301-3060, telephone (703) 693-1145.

SUPPLEMENTARY INFORMATION: Subsection (a) of 10 U.S.C. 2534 provides that the Secretary of Defense may procure the items listed in that subsection only if the manufacturer of the item is part of the national technology and industrial base. Subsection (i) of 10 U.S.C. 2534 authorizes the Secretary of Defense to exercise the waiver authority in subsection (d) on the basis of the applicability of paragraph (2) or (3) of that subsection, only if the waiver is made for a particular item listed in subsection (a) and for a particular foreign country. Subsection (d) authorizes a waiver if the Secretary determines that application of the limitation “would impede the reciprocal procurement of defense items under a memorandum of understanding providing for reciprocal procurement of defense items” and if he determines that “that country does not discriminate against defense items produced in the United States to a greater degree than the United States discriminates against defense items produced in that country.” The Secretary of Defense has delegated the waiver authority of 10 U.S.C. 2534(d) to the Under Secretary of Defense (Acquisition, Technology, and Logistics).

DoD has had a Reciprocal Defense Procurement Memorandum of Understanding (MOU) with the UK since 1975, most recently renewed on December 16, 2004.

The Under Secretary of Defense (Acquisition, Technology, and Logistics) finds that the UK does not discriminate against defense items produced in the United States to a greater degree than the United States discriminates against defense items produced in the UK, and also finds that application of the limitation in 10 U.S.C. 2534 against defense items produced in the UK would impede the reciprocal procurement of defense items under the MOU.

Under the authority of 10 U.S.C. 2534, the Under Secretary of Defense (Acquisition, Technology, and Logistics) has determined that application of the limitation of 10 U.S.C. 2534(a) to the procurement of any defense item produced in the UK that is listed below would impede the reciprocal procurement of defense items under the MOU with the UK.

On the basis of the foregoing, the Under Secretary of Defense (Acquisition, Technology, and Logistics) is waiving the limitation in 10 U.S.C. 2534(a) for procurements of any defense item listed below that is produced in the UK. This waiver applies only to the limitations in 10 U.S.C. 2534(a). It does not apply to any other limitation, including section 8016 of the DoD Appropriations Act for Fiscal Year 2012 (Pub. L. 112-74). This waiver applies to procurements under solicitations issued during the period from February 1, 2012, to February 1, 2013. Similar waivers have been granted since 1998, most recently in 2010 (75 FR 76447, December 8, 2010).

List of Items to Which This Waiver Applies

1. Air circuit breakers.

2. Welded shipboard anchor and mooring chain with a diameter of four inches or less.

3. Gyrocompasses.

4. Electronic navigation chart systems.

5. Steering controls.

6. Pumps.

7. Propulsion and machinery control systems.

8. Totally enclosed lifeboats.

Ynette R. Shelkin,
Editor, Defense Acquisition Regulations System.

[FR Doc. 2012-647 Filed 1-13-12; 8:45 am]

BILLING CODE 5001-06-P